FEDERAL COMMUNICATIONS COMMISSION

47 CFR Part 1

[FCC 00-352]

Waivers, Reductions and Deferrals of Regulatory Fees; Correction

AGENCY: Federal Communications Commission.

ACTION: Final rule; correction.

SUMMARY: The Federal Communications Commission published in the Federal Register of December 18, 2000, a document that was to deny the petition for reconsideration filed by the Cellular Telecommunications Industry Association on August 2, 1999 regarding the Report and Order in the matter of Assessment and Collection of Regulatory Fees for Fiscal Year 1999 and also amend the Commission's rule regarding petitions for reduction of regulatory fees. Inadvertently, the document did not include the paragraph noting the denial of the petition for reconsideration. This document corrects that error.

DATES: Effective January 17, 2001.

FOR FURTHER INFORMATION CONTACT: Carla Conover, Office of General Counsel, (202) 418-7882.

SUPPLEMENTARY INFORMATION: In FR Doc. 00-31946, published in the Federal Register of December 18, 2000 (65 FR 78989), the paragraph noting the denial of a petition for reconsideration was not included. This correction includes that paragraph.

1. This supplementary information is a summary of the Commission's Memorandum Opinion and Order on Reconsideration (Order) in MD Docket No. 98-200 (FCC 00-352), adopted September 21, 2000, and released October 10, 2000. The complete text of the Order is available for inspection and copying during normal business hours in the FCC Reference Information Center, Courtyard Level, 445 12th Street, SW., Washington, DC, and also may be purchased from the Commission's copy contractor, International Transcription Services (ITS, Inc.), CY-B400, 445 12th Street, SW., Washington, DC.

2. In FR Doc. 00-31946, on page 78989, in the first column, in the Summary, insert this sentence at the end of the paragraph: This document also denies the petition for reconsideration filed by the Cellular Telecommunications Industry Association on August 2, 1999 regarding the Report and Order adopted on June 11, 1999 in the matter of Assessment and Collection of Regulatory Fees for Fiscal Year 1999.

3. On page 78989, in the third column, insert the following before the List of Subjects in 47 CFR Part 1: 4. The petition for reconsideration filed by the Cellular Telecommunications Industry Association on August 2, 1999 regarding the Report and Order adopted on June 11, 1999 in the matter of Assessment and Collection of Regulatory Fees for Fiscal Year 1999 is denied.

Federal Communications Commission.
Magalie Roman Salas,
Secretary.

[FR Doc. 01-1251 Filed 1-19-01; 8:45 am]

BILLING CODE 6712-01-U